DEPARTMENT OF THE INTERIOR

Bureau of Land Management

[CO-110-1060-DC]

Notice of Public Hearing

AGENCY: White River Field Office, Bureau of Land Management, Department of the Interior.

SUMMARY: A public hearing regarding the use of motorized vehicles and helicopters; and the removal of wild horses from the Oil Springs Mountain Wilderness Study Area will be held at the White River Field Office, Bureau of Land Management.

DATES AND ADDRESSES: Hearing will be held in Meeker, Colorado at the White River Field Office, 73544 HWY 64, on April 20, 2000 at 7:00 P.M.

FOR FURTHER INFORMATION CONTACT: Robert Fowler; White River Field Office; 73544 HWY 64, Meeker, Colorado, 81641; Telephone (970) 878-3601.

John J. Mehlhoff,
White River Field Manager.

[FR Doc. 00-4793 Filed 3-14-00; 8:45 am]

BILLING CODE 4310-JB-P